DEPARTMENT OF ENERGY

Federal Energy Regulatory Commission

[Project No. 9886-034]

Valatie Falls Hydro Power, Inc.; Notice of Intent To File License Application, Filing of Pre-Application Document, Approving Use of the Traditional Licensing Process

January 13, 2023.

a. Type of Filing: Notice of Intent to File License Application and Request to Use the Traditional Licensing Process.

b. Project No.: 9886-034.

c. Date Filed: November 30, 2022.

d. Submitted By: Valatie Falls Hydro Power, Inc. (Valatie Falls).

e. Name of Project: Valatie Falls Hydroelectric Project.

f. Location: On the Kinderhook Creek in the Town of Kinderhook, Village of Valatie, Columbia County, New York. The project does not occupy any federal land.

g. Filed Pursuant to: 18 CFR 5.3 of the Commission's regulations.

h. Potential Applicant Contact: John E. Doran, Valatie Falls Hydro Power, Inc., 7 Cotton Mill Lane, Valatie, NY 12184; (855) 467-3751; email—jdoran@pisoev.com.

i. FERC Contact: Jacob Harrell at (202) 502-7313; or email at jacob.harrell@ferc.gov.

j. Valatie Falls filed its request to use the Traditional Licensing Process on November 30, 2022. Valatie Falls provided public notice of its request on November 30, 2022. In a letter dated January 13, 2023, the Director of the Division of Hydropower Licensing approved Valatie Falls' request to use the Traditional Licensing Process.

k. With this notice, we are initiating informal consultation with the U.S. Fish and Wildlife Service under section 7 of the Endangered Species Act and the joint agency regulations thereunder at 50 CFR part 402. We are also initiating consultation with the New York State Historic Preservation Officer, as required by section 106, National Historic Preservation Act, and the implementing regulations of the Advisory Council on Historic Preservation at 36 CFR 800.2.

l. With this notice, we are designating Valatie Falls as the Commission's non-federal representative for carrying out informal consultation pursuant to section 7 of the Endangered Species Act and consultation pursuant to section 106 of the National Historic Preservation Act.

m. Valatie Falls filed a Pre-Application Document (PAD; including a proposed process plan and schedule) with the Commission, pursuant to 18 CFR 5.6 of the Commission's regulations.

n. A copy of the PAD may be viewed on the Commission's website (http://www.ferc.gov), using the “eLibrary” link. Enter the docket number, excluding the last three digits in the docket number field, to access the document. For assistance, contact FERC Online Support at FERCOnlineSupport@ferc.gov, (866) 208 3676 (toll free), or (202) 502-8659 (TTY).

o. The licensee states its unequivocal intent to submit an application for a subsequent license for Project No. 9886. Pursuant to 18 CFR 16.20, each application for a subsequent license and any competing license applications must be filed with the Commission at least 24 months prior to the expiration of the existing license. All applications for license for this project must be filed by November 30, 2025.

p. Register online at http://www.ferc.gov/docs-filing/esubscription.asp to be notified via email of new filing and issuances related to this or other pending projects. For assistance, contact FERC Online Support.

Kimberly D. Bose,
Secretary.

[FR Doc. 2023-01572 Filed 1-25-23; 8:45 am]

BILLING CODE 6717-01-P